Title 3—

The President

Proclamation 9280 of May 15, 2015

National Safe Boating Week, 2015

By the President of the United States of America

A Proclamation

America's waterways are conduits to creating lasting memories, to discovering worlds of adventure, and to generating economic opportunity. On our rivers, lakes, and oceans, a father brings his daughter fishing for the first time, and a young man learns his ancestors' trade; a family takes a hard-earned vacation, and a captain cares for her prized vessel. During National Safe Boating Week, we remember that protecting the promise of our waterways rests on each of us.

Before embarking on any journey on the water, Americans should prepare for potential hazards by remembering to check the forecast, filing a float plan with a family member or friend, performing a vessel safety check, and confirming their boat has essential safety equipment and communications tools, including life jackets, fire extinguishers, and weather radios. Operators should also be ready for sudden weather changes that can affect a voyage—fog, thunderstorms, and wind shifts can often occur without warning, and knowing how to respond to dangerous weather can save lives. By always wearing life jackets and never drinking while boating, boaters and passengers can further ensure their safety and well-being and help guarantee a great day out on the water does not end in tragedy.

At times, disaster still strikes, even when we are prepared. But thanks to the courageous women and men who serve our Nation and protect our waters, the United States Coast Guard stands always ready to help keep Americans safe at sea. As we look forward to spending time with loved ones this summer and taking advantage of all our scenic waterways have to offer, I encourage everyone to visit www.USCGBoating.org to learn more about responsible boating. Together, we can enjoy the beauty and bounty of the water and avoid preventable injuries and property damage.

In recognition of the importance of safe boating practices, the Congress, by joint resolution approved June 4, 1958 (36 U.S.C. 131), as amended, has authorized and requested the President to proclaim annually the 7-day period prior to Memorial Day weekend as “National Safe Boating Week.”

NOW, THEREFORE, I, BARACK OBAMA, President of the United States of America, do hereby proclaim May 16 through May 22, 2015, as National Safe Boating Week. I encourage all Americans who participate in boating activities to observe this occasion by learning more about safe boating practices and taking advantage of boating education.

IN WITNESS WHEREOF, I have hereunto set my hand this fifteenth day of May, in the year of our Lord two thousand fifteen, and of the Independence of the United States of America the two hundred and thirty-ninth.

[FR Doc. 2015-12431

Filed 5-19-15; 11:15 am]

Billing code 3295-F5